DEPARTMENT OF ENERGY

Federal Energy Regulatory Commission

Notice of FERC Staff Attendance at the ICT Stakeholders Policy Committee and Entergy Regional State Committee Meetings

The Federal Energy Regulatory Commission (Commission) hereby gives notice that members of its staff may attend the meetings noted below. Their attendance is part of the Commission's ongoing outreach efforts.

ICT Stakeholder Policy Committee Meeting

March 16, 2011 (1 p.m.-5 p.m.)

March 17, 2011 (8 a.m.-12 p.m.)

Entergy Regional State Committee Meeting

March 17, 2011 (1 p.m.-5 p.m.)

March 18, 2011 (8 a.m.-12 p.m.

Astor Crowne Plaza,

739 Canal Street,

New Orleans, LA 70130,

504-962-0500.

The discussions may address matters at issue in the following proceedings:

Docket No. |
OA07-32 | Entergy Services, Inc.
EL00-66 | Louisiana Public Service Commission v. Entergy Services, Inc.
EL01-88 | Louisiana Public Service Commission v. Entergy Services, Inc.
EL07-52 | Louisiana Public Service Commission v. Entergy Services, Inc.
EL08-51 | Louisiana Public Service Commission v. Entergy Services, Inc.
EL08-60 | Ameren Services Co. v. Entergy Services, Inc.
EL09-43 | Arkansas Public Service Commission v. Entergy Services, Inc.
EL09-50 | Louisiana Public Service Commission v. Entergy Services, Inc.
EL09-61 | Louisiana Public Service Commission v. Entergy Services, Inc.
EL10-55 | Louisiana Public Service Commission v. Entergy Services, Inc.
EL10-65 | Louisiana Public Service Commission v. Entergy Services, Inc.
ER05-1065 | Entergy Services, Inc.
ER07-682 | Entergy Services, Inc.
ER07-956 | Entergy Services, Inc.
ER08-1056 | Entergy Services, Inc.
ER09-636 | Entergy Services, Inc.
ER09-833 | Entergy Services, Inc.
ER09-1224 | Entergy Services, Inc.
ER10-794 | Entergy Services, Inc.
ER10-1350 | Entergy Services, Inc.
ER10-1367 | Entergy Services, Inc.
ER10-2748 | Entergy Services, Inc.
ER11-2131 | Entergy Arkansas, Inc.
ER11-2132 | Entergy Louisiana, LLC
ER11-2133 | Entergy Louisiana, LLC
ER11-2134 | Entergy Mississippi, Inc.
ER11-2135 | Entergy New Orleans, Inc.
ER11-2136 | Entergy Texas, Inc.
ER11-2562 | Entergy Louisiana, LLC
ER11-3357 | Entergy Services, Inc.

These meetings are open to the public.

For more information, contact Patrick Clarey, Office of Energy Market Regulation, Federal Energy Regulatory Commission at (317) 249-5937 or patrick.clarey@ferc.gov.

Dated: March 7, 2011.
Kimberly D. Bose,
Secretary.

[FR Doc. 2011-5710 Filed 3-11-11; 8:45 am]

BILLING CODE 6717-01-P